DEPARTMENT OF HEALTH AND HUMAN SERVICES

Administration for Children and Families

Statement of Organization, Functions and Delegation of Authority

Notice is hereby given that I have delegated to the Commissioner, Administration on Children, Youth and Families, the following authority vested in me by the Secretary of Health and Human Services in memoranda dated August 20, 1991, Delegations of Authority for the Runaway and Homeless Youth Program, Drug Abuse Education and Prevention Programs Relating to Youth Gangs, and Runaways and Homeless Youth; August 20, 1991, Delegation of Authority for Family Violence Prevention and Services Program; August 20, 1991, Delegations of Authority for Social Security Act Programs; June 9, 2004, Delegation of Authority for the Abstinence Education Program under Title V, section 510 of the Social Security Act, as amended; and May 31, 2005, Delegation of Authority for the Abstinence Education Program, under Title V, Section 501(a)(2) of the Social Security Act, as amended.

(a) Authorities Delegated

1. Authority to administer the Runaway and Homeless Youth Program under the Runaway and Homeless Youth Act, 42 U.S.C. 5701, et seq., and as amended, now and hereafter.

2. Authority to administer the Drug Abuse Education and Prevention Program Relating to Youth Gangs under Sections 3501-3505 of the Anti-Drug Abuse Act of 1988, 42 U.S.C. 11801-11805, and as amended, now and hereafter.

3. Authority to administer the Drug Abuse Education and Prevention Program Relating to Runaways and Homeless Youth under Sections 3511-3515 of the Anti-Drug Abuse Act of 1988, 42 U.S.C. 11821-11825, and as amended, now and hereafter.

4. Authority to administer provisions of the Family Violence Prevention and Services Act, 42 U.S.C. 10401, et seq., and as amended, now and hereafter.

5. Authority to administer the provisions of section 439 of the Social Security Act, 42 U.S.C. 629i, concerning Grants for Programs for Mentoring Children of Prisoners, and as amended, now and hereafter.

6. Authority to administer the Abstinence Education Program under section 510 of the Social Security Act, 42 U.S.C. 710, and as amended, now and hereafter.

7. Authority to continue the administration of grants and contracts initially awarded in Fiscal Years 2002, 2003 and 2004 under the Special Projects of Regional and National Significance (SPRANS) Community-based Abstinence Education Program, pursuant to Title V, Section 501(a)(2) of the Social Security Act, as amended. The SPRANS Community-based Abstinence Education Program includes Community-based Abstinence Education grants, Abstinence Education Special Congressional Initiative Project grants, and the Abstinence Education Technical Assistance contract with the National Abstinence Clearinghouse. This delegation permits the Commissioner to administer the Fiscal Years 2002, 2003 and 2004 SPRANS abstinence education grants under the terms and conditions of the initial awards, thereby allowing the continuation of the existing grants consistent with recent appropriations enactments (Pub. L. 108-447).

(b) Limitations

1. These delegations shall be exercised under the Department's existing policies on delegations and regulations.

2. This delegation excludes the authority to submit reports to Congress and shall be exercised under financial and administrative requirements applicable to all Administration for Children and Families' authorities.

3. The approval or disapproval of grant applications and the making of grant awards requires concurrence of the appropriate Grants Officer. The approval or disapproval of contract proposals and awards is subject to the requirements of the Federal Acquisition Regulations and requires the concurrence of the Contracting Officer.

4. This delegation of authority does not include the authority to sign and issue notices of grant awards.

5. This authority does not include the authority to appoint Action Officials for Audit Resolution.

6. This delegation of authority does not include the authority to appoint Central Office or Regional Office Grant Officers for the administration of Family and Youth Services programs.

7. This delegation of authority does not include the authority to administer the Demonstration Grants for Community Initiatives, 42 U.S.C. 10418, under the Family Violence Prevention and Services Act.

8. Responsibilities under the Family Violence Prevention and Services Act are to be carried out in accordance with the requirements of Section 307, 42 U.S.C. 10406. This delegation of authority does not include enforcement authority under Section 307.

9. Any employee of the Department of Health and Human Services who is appointed to carry out one or more provisions of the Family Violence Prevention and Services Act shall, prior to such appointment, have had expertise in the field of family violence prevention and services.

10. Any redelegation shall be in writing and prompt notification must be provided to all affected managers, supervisors and other personnel and requires the concurrence of the Deputy Assistant Secretary for Administration.

(c) Effect on Existing Delegations

This delegation supersedes all previous delegations of authority involving the authorities delegated herein.

(d) Effective Date

This delegation is effective upon the date of signature.

I hereby affirm and ratify any actions taken by the Commissioner, Administration on Children, Youth and Families, which involved the exercise of the authorities delegated herein prior to the effective date of this delegation.

Dated: April 19, 2007.
Daniel C. Schneider,
Acting Assistant Secretary for Children and Families.

[FR Doc. E7-8321 Filed 5-1-07; 8:45 am]

BILLING CODE 4184-01-P